FEDERAL COMMUNICATIONS COMMISSION

47 CFR Parts 54 and 61

[CC Docket Nos. 96-262, 94-1, 99-249 and 96-45; FCC 03-164]

Access Charge Reform; Price Cap Performance Review for LECs; Low-Volume Long Distance Users; and Federal-State Joint Board on Universal Service

AGENCY: Federal Communications Commission.

ACTION: Final rule.

SUMMARY: In this document, the Commission addresses two issues before the Commission on remand from the United States Court of Appeals for the Fifth Circuit. In the CALLS Order, 65 FR 57739, May 31, 2000, the Commission adopted comprehensive reforms to the interstate access charge regime and universal service support for price cap carriers, based in part on a proposal submitted by the Coalition for Affordable Local and Long-Distance Service. The Court affirmed the CALL Order in most respects, but remanded for further explanation and analysis the Commission's decisions to size the Interstate Access Support Mechanism at $650 million and to set the X-factor at 6.5 percent.

DATES: Effective September 19, 2003.

FOR FURTHER INFORMATION CONTACT: Theodore Burmeister, Attorney, Wireline Competition Bureau, Telecommunications Access Policy Division, (202) 418-7400.

SUPPLEMENTARY INFORMATION: This is a summary of the Commission's Order in CC Docket Nos. 96-262, 94-1, 99-249 and 96-45; FCC 03-164, released on July 10, 2003. The full text of this document is available for public inspection during regular business hours in the FCC Reference Center, Room CY-A257, 445 Twelfth Street, SW., Washington, DC 20554.

I. Introduction

1. In this Order, the Commission addresses two issues on remand from the United States Court of Appeals for the Fifth Circuit. In the CALLS Order, the Commission adopted comprehensive reforms to the interstate access charge regime and universal service support for price cap carriers, based in part on a proposal submitted by the Coalition for Affordable Local and Long-Distance Service. On September 10, 2001, the Fifth Circuit affirmed the CALLS Order in most respects, but remanded for further analysis and explanation the decisions to size the Interstate Access Support (UIAS) mechanism at $650 million and to adopt the 6.5 percent X-factor. The Commission concludes that the $650 million IAS amount included in the integrated CALLS plan represents a reasonable estimate of the implicit support in access charges to be replaced with explicit support and is supported by the record in this proceeding. The Commission also concludes that the record supports the adoption of a 6.5 percent X-factor to achieve the Commission's target rate levels for price cap carriers.

2. It is ordered, pursuant to sections 1, 4(i) and (j), 201-209, 218-222, 254, and 403 of the Communications Act, as amended, 47 U.S.C. 151, 154(i), 154(j), 201-209, 218-222, 254, and 403, that this Order is hereby adopted and shall become effective September 19, 2003.

Federal Communications Commission.
Marlene H. Dortch,
Secretary.

[FR Doc. 03-21247 Filed 8-19-03; 8:45 am]

BILLING CODE 6712-01-P